DEPARTMENT OF TRANSPORTATION

Maritime Administration

[Docket No. MARAD-2025-0094]

Request for Comments on the Renewal of a Previously Approved Collection: Request for Waiver of Service Obligation, Request for Deferment of Service Obligation, and Application for Review

AGENCY: Maritime Administration, DOT.

ACTION: Notice.

SUMMARY: The Maritime Administration (MARAD) invites public comments on our intention to request the Office of Management and Budget (OMB) approval to renew an information collection in accordance with the Paperwork Reduction Act of 1995. The proposed collection OMB 2133-0510 (Request for Waiver of Service Obligation, Request for Deferment of Service Obligation, and Application for Review) is used to determine if waivers and deferments may be granted to graduates of the U.S. Merchant Marine Academy (USMMA) and State Maritime Academies (SMAs) who participated in the Student Incentive Payment (SIP) Program. There was a reduction in the total burden hours for this collection, due to less time taken to complete the forms associated with this collection. There are no other changes to this collection. We are required to publish this notice in the Federal Register to obtain comments from the public and affected agencies.

DATES: Comments must be submitted on or before August 5, 2025.

ADDRESSES: You may submit comments identified by Docket No. MARAD-2025-0094 through one of the following methods:

• Federal eRulemaking Portal: www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is reasonable for the Department's performance; (b) the accuracy of the estimated burden; (c) ways for the Department to enhance the quality, utility, and clarity of the information collection; and (d) ways that the burden could be lessened without reducing the quality of the collected information. The agency will summarize and/or include your comments in the request for OMB's clearance of this information collection.

FOR FURTHER INFORMATION CONTACT: Danielle Bennett, 202-366-7618, Office of Maritime Labor and Training, W23-458, Maritime Administration, U.S. Department of Transportation, 1200 New Jersey Avenue SE, Room, Washington, DC 20590.

SUPPLEMENTARY INFORMATION:

Title: Request for Waiver of Service Obligation, Request for Deferment of Service Obligation, and Application for Review.

OMB Control Number: 2133-0510.

Type of Request: Extension without change of a currently approved collection.

Abstract: This collection may be used by USMMA SMA SIP graduates to request: (1) a waiver of their service obligation requirement; (2) request deferring their service obligation; or (3) request a review of the MARAD decision made on these requests by the Maritime Administrator.

Respondents: USMMA graduates and SMA SIP graduates.

Affected Public: Individuals or households.

Estimated Number of Respondents: 11.

Estimated Number of Responses: 11.

Estimated Time per Response: 10 minutes.

Annual Estimated Total Annual Burden Hours: 2 hours.

Frequency of Response: Annually.

(Authority: The Paperwork Reduction Act of 1995; 44 U.S.C. Chapter 35, as amended; and 49 CFR 1.49.)

By Order of the Maritime Administration.
T. Mitchell Hudson, Jr.,
Secretary, Maritime Administration.

[FR Doc. 2025-10346 Filed 6-5-25; 8:45 am]

BILLING CODE 4910-81-P